DEPARTMENT OF THE INTERIOR

Geological Survey

[GX21ED00CPN00; OMB Control Number 1028-0119]

Agency Information Collection Activities; EROS Registration Service

AGENCY: U.S. Geological Survey, Interior.

ACTION: Notice of information collection; request for comment.

SUMMARY: In accordance with the Paperwork Reduction Act (PRA) of 1995, the U.S. Geological Survey (USGS) is proposing to renew an information collection.

DATES: Interested persons are invited to submit comments on or before August 22, 2022.

ADDRESSES: Send your comments on this information collection request (ICR) by mail to U.S. Geological Survey, Information Collections Officer, 12201 Sunrise Valley Drive, MS 159, Reston, VA 20192; or by email to gs-info_collections@usgs.gov. Please reference OMB Control Number 1028-0119 in the subject line of your comments.

FOR FURTHER INFORMATION CONTACT: To request additional information about this ICR, contact Ryan Longhenry by email at rlonghenry@usgs.gov, or by telephone at (605) 594-6179. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the PRA of 1995 (PRA, 44 U.S.C. 3501 et seq.) and 5 CFR 1320.8(d)(1), all information collections require approval under the PRA. We may not conduct nor sponsor, and you are not required to respond to, a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personally identifiable information (PII) in your comment, you should be aware that your entire comment—including your PII—may be made publicly available at any time. While you can ask us in your comment to withhold your PII from public review, we cannot guarantee that we will be able to do so.

Abstract: The USGS proposes to collect general demographic information about public users who download products from USGS user interfaces. This information helps address Congressional, OMB and DOI inquiries regarding common data uses and affiliations, along with other questions used to justify maintaining the free distribution of USGS land remote-sensing data. The information collected in the database includes the names, affiliations, addresses, email addresses, and telephone numbers of individuals. The information is gathered to facilitate the reporting of demographic data for users of USGS applications. Demographic data are also used to make decisions on future functional requirements of the system.

The demographic information is stored on an internal encrypted database. In some cases, contact information is required in order to notify the customer about information regarding data availability. Email information is also utilized for two-factor authentication. The registration system does not derive new data and does not create new data through aggregation.

Personal information is not used as search criteria. Access to the information uses the least privileged access methodology (whereby access is limited to only the information absolutely necessary to perform a task). Authorized individuals with specifically granted access to the Privacy Act data can retrieve information only by account number or order number Personal data is encrypted while stored in the database. A contact ID is generated when an account is created.

Title of Collection: EROS Registration Service.

OMB Control Number: 1028-0119.

Form Number: None.

Type of Review: Extension of a currently approved collection.

Respondents/Affected Public: Federal Agencies, state, tribal, and non-government individuals who have requested USGS products from USGS distribution applications are covered in this system. The system has only one category for individuals.

Total Estimated Number of Annual Respondents: Approximately 335,000 respondents on an annual basis.

Total Estimated Number of Annual Responses: Approximately 335,000 responses on an annual basis.

Estimated Completion Time per Response: 2 minutes on average.

Total Estimated Number of Annual Burden Hours: 11,167.

Respondent's Obligation: Required to obtain a benefit.

Frequency of Collection: One time.

Total Estimated Annual Nonhour Burden Cost: There are no “non-hour cost” burdens associated with this collection of information.

An agency may not conduct or sponsor, nor is a person required to respond to, a collection of information unless it displays a currently valid OMB control number.

The authority for this action is the Paperwork Reduction Act of 1995 (44 U.S.C. 3501 et seq).

Peter Doucette,
USGS EROS Center Director—Acting.

[FR Doc. 2022-13320 Filed 6-21-22; 8:45 am]

BILLING CODE 4338-11-P